NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 23, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Health and Human Services, Immediate Office of the National Coordinator for Health Information Technology (DAA-0468-2011-0007, 4 items, 2 temporary items). Records include administrative files and draft correspondence files. Proposed for permanent retention are official correspondence files and schedules of daily activity files for the National Coordinator.

2. Department of Justice, Civil Rights Division (DAA-0060-2011-0025, 1 item, 1 temporary item). Master files of an electronic information system which tracks the deadlines for sending mail at various points or times during Office of Special Counsel cases.

3. Department of Justice, Federal Bureau of Investigation (N1-65-11-24, 1 item, 1 temporary item). Master files of an electronic information system used for tracking Equal Employment Opportunity complaints.

4. Department of Justice, Office of Community Oriented Policing Services (DAA-0060-2011-0001, 1 item, 1 temporary item). Master files of an electronic information system which tracks progress reports from grant recipients.

5. Department of Labor, Employment and Training Administration. (N1-369-11-1, 8 items, 5 temporary items). System of records documenting employers seeking to hire foreign nationals. Includes application file case files, web access files, and master data files. Proposed for permanent retention are master data files containing data on labor certificate applications.

6. Department of Transportation, Federal Railroad Administration (N1-399-10-3, 5 items, 5 temporary items). Master files of an electronic information system used to manage and provide backup for content uploaded to the agency Web site. Also included is the agency Web site and internal intranet, which contains copies of reports, general agency information, press releases, project collaboration documents, Web site visitor information, and administrative forms and issuances.

7. Department of the Treasury, Internal Revenue Service (N1-58-11-14, 1 item, 1 temporary item). Records consist of case files used to issue retirement plan compliance statements.

8. Department of the Treasury, Internal Revenue Service (N1-58-11-16, 1 item, 1 temporary item). Records consist of forms filed by lenders on each mortgage credit certificate issued and are used to obtain taxpayer information.

9. Department of the Treasury, Internal Revenue Service (N1-58-11-21 1 item, 1 temporary item). Records consist of a form used by internal divisions as documentation of agreements relating to criminal investigations and collections activities.

10. Department of Veterans Affairs, Veteran Health Administration (N1-15-11-4, 5 items, 4 temporary items). Records related to the establishment, development, execution, and completion of educational projects, programs, and activities for clinics working with the Department's health care system. Proposed for permanent retention are historically significant media files.

Dated: March 19, 2012.
Paul M. Wester, Jr.,
Chief Records Officer for the U.S. Government.

[FR Doc. 2012-7000 Filed 3-22-12; 8:45 am]

BILLING CODE 7515-01-P